DEPARTMENT OF ENERGY

Federal Energy Regulatory Commission

[Docket No. PR10-84-000; PR10-85-000]

Centana Intrastate Pipeline, LLC; Notice of Filing

August 27, 2010.

Take notice that on August 25, 2010, Centana Intrastate Pipeline, LLC (Centana) filed in compliance to Delegated Letter Order issued July 26, 2010, in Docket Nos. PR10-9-000 and PR10-9-001. Centana filed revised Statement of Operating Conditions (SOC) for its Storage Services and Transportation Services, incorporating all information relevant to parking and lending services and including revised stand-alone rate sheets listing all services offered and their respective minimum and maximum rates.

Any person desiring to participate in this rate filing must file in accordance with Rules 211 and 214 of the Commission's Rules of Practice and Procedure (18 CFR 385.211 and 385.214). Protests will be considered by the Commission in determining the appropriate action to be taken, but will not serve to make protestants parties to the proceeding. Any person wishing to become a party must file a notice of intervention or motion to intervene, as appropriate. Such notices, motions, or protests must be filed on or before the date as indicated below. Anyone filing an intervention or protest must serve a copy of that document on the Applicant. Anyone filing an intervention or protest on or before the intervention or protest date need not serve motions to intervene or protests on persons other than the Applicant.

The Commission encourages electronic submission of protests and interventions in lieu of paper using the “eFiling” link at http://www.ferc.gov. Persons unable to file electronically should submit an original and 14 copies of the protest or intervention to the Federal Energy Regulatory Commission, 888 First Street, NE., Washington, DC 20426.

This filing is accessible on-line at http://www.ferc.gov, using the “eLibrary” link and is available for review in the Commission's Public Reference Room in Washington, DC. There is an “eSubscription” link on the Web site that enables subscribers to receive e-mail notification when a document is added to a subscribed docket(s). For assistance with any FERC Online service, please e-mail FERCOnlineSupport@ferc.gov, or call (866) 208-3676 (toll free). For TTY, call (202) 502-8659.

Comment Date: 5 p.m. Eastern time on Wednesday, September 8, 2010.

Kimberly D. Bose,
Secretary.

[FR Doc. 2010-21972 Filed 9-1-10; 8:45 am]

BILLING CODE 6717-01-P